DEPARTMENT OF TRANSPORTATION

Federal Aviation Administration

14 CFR Part 39

[Docket No. FAA-2022-1056; Project Identifier MCAI-2022-00895-P; Amendment 39-22153; AD 2022-18-02]

RIN 2120-AA64

Airworthiness Directives; MT-Propeller Entwicklung GmbH Propellers

AGENCY: Federal Aviation Administration (FAA), DOT.

ACTION: Final rule; request for comments.

SUMMARY: The FAA is adopting a new airworthiness directive (AD) for certain MT-Propeller Entwicklung GmbH MTV-5-1-( ), MTV-9-( ), MTV-11-( ), MTV-12-( ), MTV-14-B, MTV-14-D, MTV-15-( ), MTV-16-( ), MTV-17-( ), MTV-18-( ), MTV-20-( ), and MTV-27-( ) variable pitch propellers. This AD was prompted by reports of certain propeller blade lag screws that were manufactured with an improper surface finish, which results in reduced fatigue strength of these lag screws. This AD requires replacement of certain propeller blade lag screws with parts eligible for installation. The FAA is issuing this AD to address the unsafe condition on these products.

DATES: This AD is effective September 16, 2022

The Director of the Federal Register approved the incorporation by reference of a certain publication listed in this AD as of September 16, 2022.

The FAA must receive comments on this AD by October 17, 2022.

ADDRESSES: You may send comments, using the procedures found in 14 CFR 11.43 and 11.45, by any of the following methods:

• Federal eRulemaking Portal: Go to www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact MT-Propeller Entwicklung GmbH, MT-Propeller USA, Inc., 1180 Airport Terminal Drive, DeLand, FL 32724; phone: (386) 736-7762; email: service@mt-propellerusa.com. You may view this service information at the FAA, Airworthiness Products Section, Operational Safety Branch, 1200 District Avenue, Burlington, MA 01803. For information on the availability of this material at the FAA, call (817) 222-5110. It is also available at www.regulations.gov under Docket No. FAA-2022-1056.

Examining the AD Docket

You may examine the AD docket at www.regulations.gov under Docket No. FAA-2022-1056; or in person at Docket Operations between 9 a.m. and 5 p.m., Monday through Friday, except Federal holidays. The AD docket contains this final rule, the mandatory continuing airworthiness information (MCAI), any comments received, and other information. The street address for the Docket Operations is listed above.

FOR FURTHER INFORMATION CONTACT: Michael Schwetz, Aviation Safety Engineer, Boston ACO Branch, FAA, 1200 District Avenue, Burlington, MA 01803; phone: (781) 238-7761; email: 9-AVS-AIR-BACO-COS@faa.gov.

SUPPLEMENTARY INFORMATION:

Comments Invited

The FAA invites you to send any written data, views, or arguments about this final rule. Send your comments to an address listed under ADDRESSES. Include “Docket No. FAA-2022-1056; Project Identifier MCAI-2022-00895-P” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Michael Schwetz, Aviation Safety Engineer, Boston ACO Branch, FAA, 1200 District Avenue, Burlington, MA 01803. Any commentary that the FAA receives which is not specifically designated as CBI will be placed in the public docket for this rulemaking.

Background

The European Union Aviation Safety Agency (EASA), which is the Technical Agent for the Member States of the European Union, has issued EASA AD 2022-0134, dated July 6, 2022 (referred to after this as “the MCAI”), to address an unsafe condition for certain MTV-5, MTV-9, MTV-12, MTV-14, MTV-15, MTV-16, MTV-18, and MTV-27 variable pitch propellers, all models, having a serial number (S/N) identified in MT-Propeller Entwicklung GmbH Alert Service Bulletin (ASB) No. 30, Revision 7, dated June 23, 2022 (MT-Propeller ASB No. 30, Rev. 7); and MTV-5, MTV-9, MTV-11, MTV-12, MTV-14, MTV-15, MTV-16, MTV-17, MTV-18, MTV-20, and MTV-27 variable pitch propellers, any model, on which a propeller blade is installed, having an S/N identified in MT-Propeller ASB No. 30, Rev. 7. The MCAI states that in 2014, it was discovered that a batch of non-conforming propeller blade lag screws were manufactured with an improper surface finish, which results in reduced fatigue strength for these lag screws. Further investigation revealed that the non-conforming propeller blade lag screws were installed on the blades of propellers manufactured during the period of November 2013 to October 2014 and on certain propellers and propeller blades that were overhauled or repaired by MT-Propeller or an MT-Propeller approved Service Center during the same period. MT-Propeller published Service Bulletin No. 30, Original Issue, dated November 4, 2014, identifying the S/Ns of the affected propellers and propeller blades and specifying the replacement of the propeller blade lag screws with serviceable propeller blade lag screws. MT-Propeller later published MT-Propeller Entwicklung GmbH ASB No. 30, Revision 7, updating the S/Ns of the affected propellers and propeller blades. This condition, if not corrected, could lead to in-flight blade detachment, resulting in damage to the airplane and reduced control of the airplane. The FAA is issuing this AD to address the unsafe condition.

You may examine the MCAI in the AD docket at www.regulations.gov under Docket No. FAA-2022-1056.

Related Service Information Under 1 CFR Part 51

The FAA reviewed MT-Propeller Entwicklung GmbH ASB No. 30, Revision 7, dated June 23, 2022. This ASB identifies the S/Ns of the affected propellers and propeller blades and specifies replacement of the propeller blade lag screw. This ASB is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information described above. The FAA is issuing this AD after determining that the unsafe condition described previously is likely to exist or develop on other products of the same type design.

AD Requirements

This AD requires the removal from service of any installed propeller blade lag screw with part number (P/N) A-983-C-85 and the replacement with a part eligible for installation.

Differences Between This AD and the MCAI

The MCAI applies to certain MT-Propeller Entwicklung GmbH MTV-5, MTV-9, MTV-11, MTV-12, MTV-14, MTV-15, MTV-16, MTV-17, MTV-18, MTV-20, and MTV-27 variable pitch propellers, which are identified on the FAA type certificates as MTV-5-1-( ), MTV-9-( ), MTV-11-( ), MTV-12-( ), MTV-14-B, MTV-14-D, MTV-15-( ), MTV-16-( ), MTV-17-( ), MTV-18-( ), MTV-20-( ), and MTV-27-( ) propellers, respectively.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the improper surface finish on a propeller blade lag screw results in reduced fatigue strength of the propeller blade lag screw. Reduced fatigue strength could lead to in-flight blade detachment, damage to the airplane, and reduced control of the airplane, which is an immediate safety of flight problem. For turboprop engines, the propeller blade lag screw must be replaced within 120 days from the effective date of this AD or before exceeding 50 flight hours (FHs) from the effective date of this AD, whichever occurs first. For piston engines, the propeller blade lag screw must be replaced within 60 days from the effective date of this AD or before exceeding 25 FHs from the effective date of this AD, whichever occurs first. The compliance time for the required actions is shorter than the time necessary to allow for public comment and for the FAA to publish a final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 275 propellers installed on airplanes of U.S. registry.

The FAA estimates the following costs to comply with this AD:

Estimated Costs
Action | Labor cost | Parts cost | Cost per product | Cost on U.S. operators
Replace propeller blade lag screws on MTV-11-( ), MTV-15-( ), MTV-17-( ), and MTV-20-( ) propellers (28 propellers) | 12 work-hours × $85 per hour = $1,020 | $2,500 | $3,520 | $98,560
Replace propeller blade lag screws on MTV-9-( ), MTV-12-( ), and MTV-18-( ) propellers (164 propellers) | 18 work-hours × $85 per hour = $1,530 | 3,000 | 4,530 | 742,920
Replace propeller blade lag screws on MTV-14-B, MTV-14-D, and MTV-16-( ) propellers (28 propellers) | 22 work-hours × $85 per hour = $1,870 | 3,500 | 5,370 | 150,360
Replace propeller blade lag screws on MTV-5-1-( ) and MTV-27( ) propellers (55 propellers) | 30 work-hours × $85 per hour = $2,550 | 5,000 | 7,550 | 415,250

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-18-02 MT-Propeller Entwicklung GmbH: Amendment 39-22153; Docket No. FAA-2022-1056; Project Identifier MCAI-2022-00895-P.

(a) Effective Date

This airworthiness directive (AD) is effective September 16, 2022.

(b) Affected ADs

None.

(c) Applicability

This AD applies to MT-Propeller Entwicklung GmbH:

(1) MTV-5-1-( ), MTV-9-( ), MTV-12-( ), MTV-14-B, MTV-14-D, MTV-15-( ), MTV-16-( ), MTV-18-( ), and MTV-27-( ) variable pitch propellers with a propeller serial number (S/N) identified in MT-Propeller Entwicklung GmbH Alert Service Bulletin (ASB) No. 30, Revision 7, dated June 23, 2022 (MT-Propeller ASB No. 30, Rev. 7); and

(2) MTV-5-1-( ), MTV-9-( ), MTV-11-( ), MTV-12-( ), MTV-14-B, MTV-14-D, MTV-15-( ), MTV-16-( ), MTV-17-( ), MTV-18-( ), MTV-20-( ), and MTV-27-( ) variable pitch propellers with a propeller blade S/N identified in MT-Propeller ASB No. 30, Rev. 7, installed.

(d) Subject

Joint Aircraft System Component (JASC) Code 6100, Propeller System.

(e) Unsafe Condition

This AD was prompted by reports of certain propeller blade lag screws that were manufactured with an improper surface finish, which results in reduced fatigue strength of these lag screws. The FAA is issuing this AD to prevent in-flight blade detachment. The unsafe condition, if not addressed, could lead to release of the propeller, damage to the airplane, and reduced control of the airplane.

(f) Compliance

Comply with this AD within the compliance times specified, unless already done.

(g) Required Actions

(1) If the affected propeller or propeller blade is installed on a turboprop engine, before exceeding 120 days from the effective date of this AD, or within 50 flight hours (FHs) from the effective date of this AD, whichever occurs first, remove from service any propeller blade lag screw with part number (P/N) A-983-C-85 and replace with a part eligible for installation.

(2) If the affected propeller or propeller blade is installed on a piston engine, before exceeding 60 days from the effective date of this AD, or within 25 FHs from the effective date of this AD, whichever occurs first, remove from service any propeller blade lag screw with P/N A-983-C-85 and replace with a part eligible for installation.

(h) Definition

For the purpose of this AD, a “part eligible for installation” is any propeller blade lag screw with P/N A-983-D-85 or P/N A-983-E-85.

(i) Installation Prohibition

After the effective date of this AD, do not install a propeller blade lag screw with P/N A-983-C-85 onto any propeller or propeller blade.

(j) Credit for Previous Actions

You may take credit for the actions required by paragraph (g) of this AD if the actions were performed before the effective date of this AD using MT-Propeller Entwicklung GmbH Alert Service Bulletin No. 30, Revision 6, dated January 18, 2022, or earlier versions of this service information.

(k) Alternative Methods of Compliance (AMOCs)

The following provisions also apply to this AD.

(1) The Manager, Boston ACO Branch, FAA, has the authority to approve AMOCs for this AD, if requested using the procedures found in § 39.19. In accordance with § 39.19, send your request to your principal inspector or local Flight Standards District Office, as appropriate. If sending information directly to the manager of the certification office, send it to the attention of the person identified in paragraph (l)(2) of this AD.

(2) Before using any approved AMOC, notify your appropriate principal inspector, or lacking a principal inspector, the manager of the local flight standards district office/certificate holding district office.

(l) Additional Related Information

(1) Refer to European Union Aviation Safety Agency (EASA) AD 2022-0134, dated July 6, 2022, for related information. This EASA AD may be found in the AD docket at www.regulations.gov under Docket No. FAA-2022-1056.

(2) For more information about this AD, contact Michael Schwetz, Aviation Safety Engineer, Boston ACO Branch, FAA, 1200 District Avenue, Burlington, MA 01803; phone: (781) 238-7761; email: 9-AVS-AIR-BACO-COS@faa.gov.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) MT-Propeller Entwicklung GmbH Alert Service Bulletin No. 30, Revision 7, dated June 23, 2022.

(ii) [Reserved]

(3) For MT-Propeller Entwicklung GmbH service information identified in this AD, contact MT-Propeller Entwicklung GmbH, MT-Propeller USA, Inc., 1180 Airport Terminal Drive, DeLand, FL 32724; phone: (386) 736-7762; email: service@mt-propellerusa.com.

(4) You may view this service information at the FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on August 17, 2022.
Christina Underwood,
Acting Director, Compliance & Airworthiness Division, Aircraft Certification Service.

[FR Doc. 2022-19050 Filed 8-30-22; 4:15 pm]

BILLING CODE 4910-13-P